DEPARTMENT OF INTERIOR

National Park Service

[NPS-WASO-NRSS-NSNSD-21927; PPWONRADN1, PPMRSNR1Y.NS000 (166)]

Proposed Information Collection; Natural Sounds/Quiet Valuation Survey

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2016. We may not conduct or sponsor and you are not required to respond to a collection of information unless it displays a currently valid OMB control number.

DATES: To ensure that we are able to consider your comments on this IC, we must receive them by November 14, 2016.

ADDRESSES: Direct all written comments on this IC to Phadrea Ponds, Information Collection Coordinator, National Park Service, 1201 Oakridge Drive, Fort Collins, CO 80525 (mail); or phadrea_ponds@nps.gov (email). Please reference Information Collection NATSOUNDS in the subject line.

FOR FURTHER INFORMATION CONTACT: Frank Turina, Night Skies and Natural Sounds Division, National Park Service, 1201 Oakridge Drive, Fort Collins, Colorado 80525 (mail); Frank_Turina@nps.gov (email); or (970) 225-3530 (phone).

SUPPLEMENTARY INFORMATION:

I. Abstract

Under the Organic Act of 1916 (54 U.S.C. 100701), the NPS is charged with conserving the scenery, natural and historic objects, and wildlife in its units. The acoustical environment or soundscape is a fundamental aspect of NPS units and critical to visitors' interaction with and interpretation of said resources. While the NPS has policies in place to monitor and manage acoustical conditions, it does not have information on how visitors value preserving natural sounds and/or reducing noise impacts. NPS plans to conduct a stated-preference survey of visitors in two park units in order to estimate individual values for maintenance or improvement of acoustical conditions within a national park setting.

The purpose of this IC is to continue survey development and pre-testing activities that were initiated in 2013. This continuation will involve a series of focus groups in two NPS units. The intent of the focus groups is to refine and test existing survey materials. Specifically, previous pre-testing efforts indicated that further refinement and testing of stated-preference questions was necessary. Best practice guidelines in the conduct of stated-preference studies require that survey content, language and instructions be clearly understood by respondents so that the results are as accurate and reliable as possible.

II. Data

OMB Control Number: 1024-0269.

Title: Natural Sounds/Quiet Valuation Survey.

Type of Request: Renewal of a currently approved collection.

Affected Public: Park visitors; individual and general households.

Respondent Obligation: Voluntary.

Frequency of Collection: One time.

Estimated Number of Annual Responses: 80 respondents. This collection will involve eight two-hour focus group sessions. We estimate that each group will have at most 10 participants.

Annual Burden Hours: 160 hours; two hours per respondent.

Estimated Reporting and Recordkeeping “Non-Hour Cost” Burden: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: September 12, 2016.
Madonna L. Baucum,
Information Collection Clearance Officer, National Park Service.

[FR Doc. 2016-22223 Filed 9-14-16; 8:45 am]

BILLING CODE 4310-EH-P